DEPARTMENT OF DEFENSE

Office of the Secretary

[Docket ID: DOD-2009-OS-0058]

Privacy Act of 1974; System of Records

AGENCY: Defense Logistics Agency, DoD.

ACTION: Notice to amend a System of Records.

SUMMARY: The Defense Logistics Agency is proposing to amend two system of records notices in its existing inventory of record systems subject to the Privacy Act of 1974 (5 U.S.C. 552a), as amended.

DATES: The proposed action will be effective without further notice on June 1, 2009 unless comments are received which would result in a contrary determination.

ADDRESSES: Chief Privacy and FOIA Officer, Headquarters Defense Logistics Agency, ATTN: DGA, 8725 John J. Kingman Road, Suite 1644, Fort Belvoir, VA 22060-6221

FOR FURTHER INFORMATION CONTACT: Mr. Lewis Oleinick at (703) 767-6194.

SUPPLEMENTARY INFORMATION: The Defense Logistics Agency's system of record notices subject to the Privacy Act of 1974 (5 U.S.C. 552a), as amended, have been published in the Federal Register and are available from the address above.

The specific changes to the record system being amended are set forth below followed by the notice, as amended, published in its entirety. The proposed amendments are not within the purview of subsection (r) of the Privacy Act of 1974 (5 U.S.C. 552a), as amended, which requires the submission of new or altered systems reports.

Dated: April 27, 2009.
Morgan E. Frazier,
Alternate OSD Federal Register Liaison Officer, Department of Defense.

S500.40

SYSTEM NAME:

DLA Security Force and Staff Records (August 16, 2007, 72 FR 46043).

CHANGES:

* * * * *

AUTHORITY FOR MAINTENANCE OF THE SYSTEM:

Delete entry and replace with “10 U.S.C. 136, Under Secretary of Defense for Personnel and Readiness; Section 21 of the Internal Security Act of 1950 (50 U.S.C. 797); 18 U.S.C. 499, Military, Naval, or Official Passes; 18 U.S.C. 701, Official Badges, Identification Cards, Other Insignia; 18 U.S.C. 716, Police Badges; DOD Instructions 5200.8, Security of Military Installations and Resources; 10 U.S.C. 1580, Emergency Essential Personnel, designation; 10 U.S.C. 1585, Carrying of Firearms; DOD 5210.56, Use of Deadly Force and the Carrying of Firearms by DOD Personnel Engaged in Law Enforcement and Security Duties; CJCSI 3121.01B, Standing Rules of Engagement/Standing rules for the Use of Force for US Forces; 10 U.S.C. 1593, Uniform allowance: civilian employees; and E.O. 9397 (SSN).”

* * * * *

RETRIEVABILITY:

Delete entry and replace with “Records are retrieved by individual's name, Social Security Number, shield or credential number.”

* * * * *

SYSTEM MANAGER(S) AND ADDRESS:

Delete entry and replace with “Program Manager, Law Enforcement Operations, Headquarters, Defense Logistics Agency, Office of Public Safety, 8725 John J. Kingman Road, Suite 3533, Fort Belvoir, VA 22060-6220, and the Security Managers within the DLA field activity responsible for the operation of security forces and staff at the DLA field activity.”

NOTIFICATION PROCEDURE:

Delete entry and replace with “Individuals seeking to determine whether information about themselves is contained in this system of records should address written inquiries to the Privacy Act Office, Headquarters, Defense Logistics Agency, ATTN: DGA, 8725 John J. Kingman Road, Suite 1644, Fort Belvoir, VA 22060-6221.

Inquiry should contain subject individual's full name, Social Security Number, and the DLA activity where employed.”

RECORD ACCESS PROCEDURES:

Delete entry and replace with “Individuals seeking access to information about them contained in this system of records should address written inquiries to the Privacy Act Office, Headquarters, Defense Logistics Agency, ATTN: DGA, 8725 John J. Kingman Road, Suite 1644, Fort Belvoir, VA 22060-6221.

Inquiry should contain subject individual's full name, Social Security Number, and the DLA activity where employed.”

CONTESTING RECORD PROCEDURES:

Delete entry and replace with “The DLA rules for accessing records, for contesting contents, and appealing initial agency determinations are contained in 32 CFR part 323, or may be obtained from the Privacy Act Office, Headquarters, Defense Logistics Agency, ATTN: DGA, 8725 John J. Kingman Road, Suite 1644, Fort Belvoir, VA 22060-6221.”

RECORD SOURCE CATEGORIES:

Delete entry and replace with “The individual, DLA Security Managers, Security Staff, Security Force Supervisors, and training and educational institutions.”

* * * * *

S500.40

SYSTEM NAME:

DLA Security Force and Staff Records.

SYSTEM LOCATION:

Public Safety and Security Office, Headquarters, Defense Logistics Agency, 8725 John J. Kingman Road, Suite 3533, Fort Belvoir, VA 22060-6220 and the Public Safety and Security Offices of the DLA Field Activities. Addresses may be obtained from the System manager.

CATEGORIES OF INDIVIDUALS COVERED BY THE SYSTEM:

Defense Logistics Agency (DLA) security and investigations personnel.

CATEGORIES OF RECORDS IN THE SYSTEM:

Records contain individual's name, Social Security Number (SSN), date of birth, home address, telephone number, emergency notification data, driver's license number and expiration date, security clearance, weapons qualification, education and training data, professional certifications, issuance and receipt of property and equipment (uniforms, shields, credentials, weapons, ammunition), shift assignments, and related papers.

Authority for maintenance of the system:

10 U.S.C. 136, Under Secretary of Defense for Personnel and Readiness; Section 21 of the Internal Security Act of 1950 (50 U.S.C. 797); 18 U.S.C. 499, Military, Naval, or Official Passes; 18 U.S.C. 701, Official Badges, Identification Cards, Other Insignia; 18 U.S.C. 716, Police Badges; DOD Instruction 5200.8, Security of Military Installations and Resources; 10 U.S.C. 1580, Emergency Essential Personnel, designation; 10 U.S.C. 1585, Carrying of Firearms; DOD 5210.56, Use of Deadly Force and the Carrying of Firearms by DOD Personnel Engaged in Law Enforcement and Security Duties; CJCSI 3121.01B, Standing Rules of Engagement/Standing Rules for the Use of Force for US Forces; 10 U.S.C. 1593, Uniform allowance: civilian employees; and E.O. 9397 (SSN).

PURPOSE(S):

Information is maintained and used by DLA Security Managers, Security and Public Safety staffs, and Security Force Supervisors to provide data concerning the professional qualifications, training requirements, and health and readiness of Security Force personnel at DLA Headquarters and field activities. Records are also used for identification and emergency notification in case of accident or casualty; to maintain control and accountability of property (i.e. uniforms, shields, credentials, weapons, ammunition, and equipment); to ensure proper training; to develop schedules and procedures to improve efficiency. Records are used to determine if an individual is qualified in the use of firearms and vehicles and for security clearance to handle classified information.

ROUTINE USES OF RECORDS MAINTAINED IN THE SYSTEM, INCLUDING CATEGORIES OF USERS AND THE PURPOSE OF SUCH USES:

In addition to those disclosures generally permitted under 5 U.S.C. 552a(b) of the Privacy Act of 1974, these records contained therein may specifically be disclosed outside the DoD as a routine use pursuant to 5 U.S.C. 552a(b)(3) as follows:

To Federal, state or local law enforcement agencies for training or assistance in police or security operations.

To local hospitals and medical personnel for emergency treatment in case of accident or casualty.

To Federal and non-federal schools, academies, and similar institutions for training or certification purposes.

To Federal, state, or local disaster relief agencies for mutual aid.

The DoD “Blanket Routine Uses” also apply to this system of records.

POLICIES AND PRACTICES FOR STORING, RETRIEVING, ACCESSING, RETAINING, AND DISPOSING OF RECORDS IN THE SYSTEM:

STORAGE:

Records may be stored on paper and/or on electronic storage media.

RETRIEVABILITY:

Records are retrieved by individual's name, Social Security Number, shield or credential number.

SAFEGUARDS:

Records are maintained in areas accessible only to DLA Headquarters and field activities security supervisory and staff personnel who use the records to perform their duties. All records are maintained on closed military installations with security force personnel performing installation access control and random patrols. Common Access Cards and personal identification numbers are used to authenticate authorized desktop and laptop computer users. Computer servers are scanned quarterly or monthly to assess system vulnerabilities. Systems security updates are accomplished daily. The computer files are password protected with access restricted to authorized users with a need for the information. Records are secured in locked or guarded buildings, locked offices, or locked cabinets during non duty hours, with access restricted during duty hours to authorized users with a need for the information.

RETENTION AND DISPOSAL:

Records are destroyed after 1 year, when no longer needed, superseded or obsolete, or upon termination of record subject, as applicable.

SYSTEM MANAGER(S) AND ADDRESS:

Program Manager, Law Enforcement Operations, Headquarters, Defense Logistics Agency, Office of Public Safety, 8725 John J. Kingman Road, Suite 3533, Fort Belvoir, VA 22060-6220, and the Security Managers within the DLA field activity responsible for the operation of security forces and staff at the DLA field activity.

NOTIFICATION PROCEDURE:

Individuals seeking to determine whether information about themselves is contained in this system of records should address written inquiries to the Privacy Act Office, Headquarters, Defense Logistics Agency, ATTN: DGA, 8725 John J. Kingman Road, Suite 1644, Fort Belvoir, VA 22060-6221.

Inquiry should contain subject individual's full name, Social Security Number, and the DLA activity where employed.

RECORD ACCESS PROCEDURES:

Individuals seeking access to information about them contained in this system of records should address written inquiries to the Privacy Act Office, Headquarters, Defense Logistics Agency, ATTN: DGA, 8725 John J. Kingman Road, Suite 1644, Fort Belvoir, VA 22060-6221.

Inquiry should contain subject individual's full name, Social Security Number, and the DLA activity where employed.

CONTESTING RECORD PROCEDURES:

The DLA rules for accessing records, for contesting contents, and appealing initial agency determinations are contained in 32 CFR part 323, or may be obtained from the Privacy Act Office, Headquarters, Defense Logistics Agency, ATTN: DGA, 8725 John J. Kingman Road, Suite 1644, Fort Belvoir, VA 22060-6221.

RECORD SOURCE CATEGORIES:

The individual, DLA Security Managers, Security Staff, Security Force Supervisors, and training and educational institutions.

EXEMPTIONS CLAIMED FOR THE SYSTEM:

None.

S500.43

SYSTEM NAME:

Firearms Registration Records (June 8, 1999, 64 FR 30494).

CHANGES:

* * * * *

SYSTEM LOCATION:

Delete entry and replace with “Defense Logistics Agency field activities. Addresses may be obtained from the system manager.”

* * * * *

SAFEGUARDS:

Delete entry and replace with “Records are maintained in areas accessible only to DLA Headquarters and field activities security supervisory and staff personnel who use the records to perform their duties. All records are maintained on closed military installations with security force personnel performing installation access control and random patrols. Common Access Cards and personal identification numbers are used to authenticate authorized desktop and laptop computer users. Computer servers are scanned quarterly or monthly to assess system vulnerabilities. Systems security updates are accomplished daily. The computer files are password protected with access restricted to authorized users with a need for the information. Records are secured in locked or guarded buildings, locked offices, or locked cabinets during non duty hours, with access restricted during duty hours to authorized users with a need for the information.”

* * * * *

SYSTEM MANAGER(S) AND ADDRESS:

Delete entry and replace with “Security managers within the DLA field activity responsible for the operation of security forces and staff at the DLA field activity.”

NOTIFICATION PROCEDURE:

Delete entry and replace with “Individuals seeking to determine whether information about themselves is contained in this system of records should address written inquiries to the Privacy Act Office, Headquarters, Defense Logistics Agency, ATTN: DGA, 8725 John J. Kingman Road, Suite 1644, Fort Belvoir, VA 22060-6221.

Inquiry should contain subject individual's full name, Social Security Number, home address, and location of DLA installation where firearm was registered.”

RECORD ACCESS PROCEDURES:

Delete entry and replace with “Individuals seeking access to information about them contained in this system of records should address written inquiries to the Privacy Act Office, Headquarters, Defense Logistics Agency, ATTN: DGA, 8725 John J. Kingman Road, Suite 1644, Fort Belvoir, VA 22060-6221.

Inquiry should contain subject individual's full name, current address and telephone numbers of the individual.”

CONTESTING RECORD PROCEDURES:

Delete entry and replace with “The DLA rules for accessing records, for contesting contents, and appealing initial agency determinations are contained in 32 CFR part 323, or may be obtained from the Privacy Act Office, Headquarters, Defense Logistics Agency, ATTN: DGA, 8725 John J. Kingman Road, Suite 1644, Fort Belvoir, VA 22060-6221.”

RECORD SOURCE CATEGORIES:

Delete entry and replace with “The individual, security and police force personnel.”

* * * * *

S500.43

SYSTEM NAME:

Firearms Registration Records.

SYSTEM LOCATION:

Defense Logistics Agency field activities. Addresses may be obtained from the system manager.

CATEGORIES OF INDIVIDUALS COVERED BY THE SYSTEM:

Individuals required to register personal firearms with the Defense Logistics Agency.

CATEGORIES OF RECORDS IN THE SYSTEM:

The file includes name, addresses, Social Security Number, and telephone numbers. The file also includes firearm registration forms, and other documents relating to registration of privately owned firearms.

AUTHORITY FOR MAINTENANCE OF THE SYSTEM:

Section 21 of the Internal Security Act 1950 (50 U.S.C. 797, et seq.); DoD Instruction 5200.8, Security of DOD Installations and Resources; DOD Directive 5105.22, Defense Logistics Agency; and E.O. 9397 (SSN).

PURPOSE(S):

Information is used by security officers and police force personnel to ensure proper maintenance and safekeeping of privately owned firearms by personnel residing on DLA controlled premises or who are required to register firearms with DLA. Records may also be used to identify the owner of a particular firearm.

ROUTINE USES OF RECORDS MAINTAINED IN THE SYSTEM, INCLUDING CATEGORIES OF USERS AND THE PURPOSES OF SUCH USES:

In addition to those disclosures generally permitted under 5 U.S.C. 552a(b) of the Privacy Act of 1974, these records contained therein may specifically be disclosed outside the DoD as a routine use pursuant to 5 U.S.C. 552a(b)(3) as follows:

The DoD “Blanket Routine Uses” also apply to this system of records.

POLICIES AND PRACTICES FOR STORING, RETRIEVING, ACCESSING, RETAINING, AND DISPOSING OF RECORDS IN THE SYSTEM:

STORAGE:

Records may be stored on paper and/or on electronic storage media.

RETRIEVABILITY:

Records are retrieved by subject individual's name or Social Security Number (SSN).

SAFEGUARDS:

Records are maintained in areas accessible only to DLA Headquarters and field activities security supervisory and staff personnel who use the records to perform their duties. All records are maintained on closed military installations with security force personnel performing installation access control and random patrols. Common Access Cards and personal identification numbers are used to authenticate authorized desktop and laptop computer users. Computer servers are scanned quarterly or monthly to assess system vulnerabilities. Systems security updates are accomplished daily. The computer files are password protected with access restricted to authorized users with a need for the information. Records are secured in locked or guarded buildings, locked offices, or locked cabinets during non duty hours, with access restricted during duty hours to authorized users with a need for the information.

RETENTION AND DISPOSAL:

Destroy 6 months after cancellation of registration or departure of the registrant from the jurisdiction of the registering activity.

SYSTEM MANAGER(S) AND ADDRESS:

Security managers within the DLA field activity responsible for the operation of security forces and staff at the DLA field activity.

NOTIFICATION PROCEDURE:

Individuals seeking to determine whether information about themselves is contained in this system of records should address written inquiries to the Privacy Act Office, Headquarters, Defense Logistics Agency, ATTN: DGA, 8725 John J. Kingman Road, Suite 1644, Fort Belvoir, VA 22060-6221.

Inquiry should contain subject individual's full name, Social Security Number, home address, and location of DLA installation where firearm was registered.

RECORD ACCESS PROCEDURES:

Individuals seeking access to information about them contained in this system of records should address written inquiries to the Privacy Act Office, Headquarters, Defense Logistics Agency, ATTN: DGA, 8725 John J. Kingman Road, Suite 1644, Fort Belvoir, VA 22060-6221.

Inquiry should contain subject individual's full name, current address and telephone numbers of the individual.

CONTESTING RECORD PROCEDURES:

The DLA rules for accessing records, for contesting contents, and appealing initial agency determinations are contained in 32 CFR part 323, or may be obtained from the Privacy Act Office, Headquarters, Defense Logistics Agency, ATTN: DGA, 8725 John J. Kingman Road, Suite 1644, Fort Belvoir, VA 22060-6221.

RECORD SOURCE CATEGORIES:

The individual, security and police force personnel.

EXEMPTIONS CLAIMED FOR THE SYSTEM:

None.

[FR Doc. E9-9906 Filed 4-29-09; 8:45 am]

BILLING CODE 5001-06-P